DEPARTMENT OF JUSTICE

[CPCLO Order No. 007-2012]

Privacy Act of 1974; System of Records

AGENCY: Federal Bureau of Prisons, Department of Justice.

ACTION: Modified System of Records.

SUMMARY: Pursuant to the Privacy Act of 1974 (5 U.S.C. 552a), notice is given that the Federal Bureau of Prisons (Bureau) proposes to modify in part its system of records entitled “Inmate Central Records System, JUSTICE/BOP-005.” The system notice, which was last published in the Federal Register on May 9, 2002 (67 FR 31371), and modified on January 25, 2007 (72 FR 3410), is now being modified by the Bureau for the reasons set forth below, as well as to reflect the overall modernization and technological changes of the Bureau's electronic information systems, such as SENTRY and BOPWARE, that maintain its inmate central records.

The Bureau is making the following modifications:

The Bureau clarifies in the “System Location” section that the records contained in this system may be located at any authorized Department of Justice location, in addition to the Central Office, Regional Offices, any of the Federal Bureau of Prisons and/or contractor-operated correctional facilities. This clarification is made to describe accurately where records from this system are located, and to reflect that the Bureau may store records at other locations, such as other Bureau administrative offices, or at any authorized Department of Justice locations.

The Bureau alters the “Categories of Individuals Covered by the System” to include individuals who may be committed to the custody of the Attorney General and/or the Director of the Bureau of Prisons, including those individuals under custody for criminal and civil commitments.

The Bureau is modifying and/or adding to the “Routine Use” section of the notice as follows:

The Bureau makes a minor amendment to more accurately cite a statutory reference in routine use (i), which allows for disclosure to the United States Department of Veterans Affairs (VA), pursuant to 38 U.S.C. 5106, Public Law 94-432, for the purpose of matching the data against VA records to determine the eligibility of Bureau inmates to receive veterans' benefits. The incorrect citation to Public Law 96-385 is removed.

The Bureau adds a routine use to clarify Bureau practice in keeping the public informed: Routine use (r) explains that information that is available as a general public record may be disclosed from this system of records, including information such as name, offense, sentence data, current and past institution confinements, and release date to the extent that it does not cause an unwarranted invasion of personal privacy. This routine use is needed in order to allow the release of information that is available as a general public record to members of the public via the Bureau's public Web site or via telephone.

The Bureau adds a routine use: Routine use (s), which permits disclosures required by statute or treaty.

The Bureau adds a routine use: Routine use (t), which permits disclosures to federal, state or community health care agencies and professionals, including physicians, psychiatrists, psychologists, and state and federal medical facility personnel, who are providing treatment for a pre-existing condition to former federal inmates, and to federal, state, or local health care agencies and professionals for the purpose of securing medical or mental health after-care for current federal inmates. This routine use is needed to permit sharing of information to these entities in order to ensure continuity of inmate medical care.

The Bureau adds a routine use: Routine use (u) will permit disclosures to the Department of State (DOS), for the purposes of matching the data against DOS records for detection/prevention of criminal activity under 18 U.S.C. 1544. This routine use was requested by the Department of State in furtherance of their mission and to ensure that inmate identities are not fraudulently misappropriated for criminal/unauthorized passport use.

The Bureau makes a slight change in the “Safeguards” section to clarify that only those authorized Department of Justice personnel who require access to perform their official duties may access the system equipment and the information in the system. Previously, this section referred to only Bureau staff. The Bureau makes this change to accurately reflect that this system is accessed by other authorized Department of Justice personnel.

The Bureau is adding a security classification of “Unclassified.”

The Bureau clarifies the section “Policies and Practices for Storing, Retrieving, Accessing, Retaining, and Disposing of Records in the System: Storage” to account for changes in terminology and updated technology. Specifically, BOP changes “stored in electronic media” to “stored electronically,” “client/server” to “servers,” and “magnetic tapes and/or optical disks” to “tape backup systems.” BOP further clarifies that documentary (physical, “hard copies,” paper, etc.) records are maintained in the same method as information maintained in the system or in manual file folders, but that some older records are maintained on microfilm, microfiche, and/or index card files.

The Bureau is proposing to exempt this system of records from certain provisions of the Privacy Act pursuant to 5 U.S.C. 552a(j) and (k). Although this system of records was previously exempt from certain provisions of the Privacy Act pursuant to 5 U.S.C. 552a(j)(2), the Bureau is seeking additional exemptions pursuant to 5 U.S.C. 552a(j)(2) and adding exemptions pursuant to 5 U.S.C. 552a(k).

DATES: In accordance with 5 U.S.C. 552a(e)(4) and (11), the public is given a 30-day period in which to comment. Therefore, please submit any comments by May 29, 2012.

ADDRESSES: The public, Office of Management and Budget (OMB), and Congress are invited to submit comments to the Department of Justice, ATTN: Privacy Analyst, Office of Privacy and Civil Liberties, National Place Building, 1331 Pennsylvania Avenue NW., Suite 1000, Washington, DC 20530-0001, or by facsimile at 202-307-0693.

FOR FURTHER INFORMATION CONTACT: C. Darnell Stroble, Attorney Advisor, Federal Bureau of Prisons, 202-514-9180.

In accordance with 5 U.S.C. 552a(r), the Department has provided a report to OMB and Congress on the modified system of records.

Dated: April 5, 2012.
Nancy C. Libin,
Chief Privacy and Civil Liberties Officer, United States Department of Justice.

JUSTICE/BOP-005

SYSTEM NAME:

Inmate Central Records System.

SECURITY CLASSIFICATION:

Unclassified.

SYSTEM LOCATION:

Records may be retained at any Department of Justice authorized location, including the Central Office, Regional Offices, any of the Federal Bureau of Prisons (Bureau) and/or any contractor-operated correctional facilities. A list of Bureau locations may be found at 28 CFR part 503 and on the Internet at http://www.bop.gov.

CATEGORIES OF INDIVIDUALS COVERED BY THE SYSTEM:

Individuals currently or formerly under the custody of the Attorney General and/or the Director of the Bureau of Prisons, including those individuals under custody for criminal and civil commitments.

* * * * *

ROUTINE USES OF RECORDS MAINTAINED IN THE SYSTEM, INCLUDING CATEGORIES OF USERS AND THE PURPOSES OF SUCH USES:

Relevant data from this system may be disclosed as follows:

* * * * *

(i) To the United States Department of Veterans Affairs (VA), pursuant to 38 U.S.C. 5106, Public Law 94-432, for the purpose of matching the data against VA records to determine the eligibility of Bureau inmates to receive veterans' benefits; the VA is to erase the Bureau data after the match has been made;

* * * * *

(r) To the news media and the public, including disclosures of matters solely of general public record, including name, offense, sentence data, current and past institution confinements, and release date, unless it is determined that release of the specific information would constitute an unwarranted invasion of personal privacy;

(s) To such recipients and under such circumstances and procedures as are mandated by federal statute or treaty;

(t) To federal, state or community health care agencies and professionals, including physicians, psychiatrists, psychologists, and state and federal medical facility personnel, who are providing treatment for a pre-existing condition to former federal inmates, and to federal, state, or local health care agencies and professionals for the purpose of securing medical or mental health after-care for current federal inmates.

(u) To the Department of State (DOS), for the purpose of matching the data against DOS records for detection/prevention of criminal activity under 18 U.S.C. 1544.

POLICIES AND PRACTICES FOR STORING, RETRIEVING, ACCESSING, RETAINING, AND DISPOSING OF RECORDS IN THE SYSTEM: STORAGE:

Information maintained in the system is stored electronically in Bureau facilities via a configuration of personal computers, servers, and mainframe systems architecture. Computerized records are maintained on hard disks, Compact Discs (CDs), storage area networks, or tape backup systems. Documentary (physical, “hard copies,” paper, etc.) records are maintained in manual file folders or electronically as described above. Some older records are maintained on microfilm, microfiche, and/or index card files.

* * * * *

SAFEGUARDS:

Information is safeguarded in accordance with Bureau rules and policy governing automated information systems security and access. These safeguards include the maintenance of records and technical equipment in restricted areas, and the required use of proper passwords and user identification codes to access the system. Only those authorized DOJ personnel who require access to perform their official duties may access the system equipment and the information in the system.

* * * * *

EXEMPTIONS CLAIMED FOR THE SYSTEM:

The Attorney General has exempted this system from subsections (c)(3) and (4); (d); (e)(1), (2), (3), (4)(G), (H), and (I), (5), (8); (f); and (g) of the Privacy Act pursuant to 5 U.S.C. 552a(j). The Attorney General has also exempted this system from subsections (c)(3); (d); (e)(1), (e)(4)(G), (H), and (I); and (f) of the Privacy Act pursuant to 5 U.S.C. 552a(k)(2). Rules have been promulgated in accordance with the requirements of 5 U.S.C. 553(b), (c) and (e) and published in today's Federal Register.

[FR Doc. 2012-9777 Filed 4-25-12; 8:45 am]

BILLING CODE 4410-05-P